DEPARTMENT OF LABOR

Agency Information Collection Activities; Submission for OMB Review; Comment Request; National Longitudinal Study of Unemployment Insurance Recipients (NLS-UI)

AGENCY: Office of the Assistant Secretary for Policy/Chief Evaluation Office, Department of Labor.

ACTION: Notice.

SUMMARY: The Department of Labor (DOL), as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that required data can be provided in the desired format, reporting burden (time and financial resources) is minimized, collection instruments are clearly understood, and the impact of collection requirements on respondents can be properly assessed.

A copy of the proposed ICR can be obtained by contacting the office listed below in the addresses section of this notice.

DATES: Written comments must be submitted to the office listed in the addresses section below on or before September 20, 2013.

ADDRESSES: You may submit comments by either one of the following methods: Email: Pavosevich.Robert@dol.gov; Mail or Courier: Robert Pavosevich, U.S. Department of Labor ETA/OUI/DFAS, Room S-4231, 200 Constitution Avenue NW., Washington DC 20210. Instructions: Please submit one copy of your comments by only one method. All submissions received must include the agency name and OMB Control Number identified above for this information collection. Because we continue to experience delays in receiving mail in the Washington, DC area, commenters are strongly encouraged to transmit their comments electronically via email or to submit them by mail early. Comments, including any personal information provided, become a matter of public record. They will also be summarized and/or included in the request for OMB approval of the information collection request.

FOR FURTHER INFORMATION CONTACT: Robert Pavosevich by telephone at 202-693-2935 (this is not a toll-free number) or by email at Pavosevich.Robert@dol.gov.

SUPPLEMENTARY INFORMATION: I. Background: The unemployment insurance (UI) program was designed to reduce financial hardships for unemployed workers, assist with reemployment, and ameliorate the negative effects of unemployment on the economy as a whole. By providing temporary income support, UI benefits can smooth the transition to new circumstances, reduce financial distress, and provide workers with a buffer while they search for jobs. Furthermore, to reduce the potential incentive for UI recipients to prolong their unemployment, UI benefits are time-limited and provide only a partial replacement of lost earnings.

Understanding how workers adjust to the changes in income during and after UI claim spells would enable policymakers to assess how well the program is serving the nation's workers and refine it to meet the needs of unemployed workers while encouraging them to return to work. However, information about UI recipients is generally obtained from retrospective surveys, which might not provide sufficient insight into the dynamic adjustments after job loss or the recipients' satisfaction with the program structure.

The National Longitudinal Study of Unemployment Insurance Recipients (NLS-UI), funded by the U.S. Department of Labor, Office of the Assistant Secretary for Policy, Chief Evaluation Office, will help policymakers and program administrators gain information about the experiences of UI recipients. The study will examine the extent to which the UI program reduces recipients' financial hardships, the ways in which job search and reemployment expectations change during and after benefit collection, and customers' satisfaction levels with the UI program. The study will address research questions in six broad topic areas: (1) Adequacy of UI benefits, (2) reemployment expectations, (3) job search, (4) total UI benefit usage, (5) employment outcomes, and (6) UI recipients' satisfaction with the UI program.

This package requests clearance for three surveys of UI recipients that will take place over approximately nine months. The surveys will be timed to coincide with the early, middle, and post-UI collection experiences of about 2,800 UI recipients in two states who filed to receive a first payment during 2013. Each survey will take about 25 minutes, on average, and they will be administered by web and computer-assisted telephone interviewing. Administrative UI claims data will also be collected from both states to obtain identifying and contact information about UI recipients who will be surveyed and to learn about their UI benefit collection experiences.

II. Desired Focus of Comments: Currently, the Department of Labor is soliciting comments concerning the above data collection for the National Longitudinal Study of Unemployment Insurance Recipients (NLS-UI). Comments are requested to:

* evaluate whether the proposed collection of information is necessary for the proper performance of the functions of the agency, including whether the information will have practical utility;

* evaluate the accuracy of the agency's estimate of the burden of the proposed collection of information, including the validity of the methodology and assumptions used;

* enhance the quality, utility, and clarity of the information to be collected; and

* minimize the burden of the information collection on those who are to respond, including the use of appropriate automated, electronic, mechanical, or other technological collection techniques or other forms of information technology, e.g., permitting electronic submissions of responses.

III. Current Actions: At this time, the Department of Labor is requesting clearance to conduct three surveys of about 2,800 UI recipients for the National Longitudinal Study of Unemployment Insurance Recipients (NLS-UI).

Type of review: New information collection request.

OMB Control Number: 1205-0NEW.

Affected Public: UI benefit recipients in two states who filed to receive a first payment during 2013.

Frequency: Three interviews.

Total Responses: 5,694 (1,898 per three survey waves).

Average Time per Response: 25 minutes.

Estimated Total Burden Hours: 2,372 hours.

Average Annual Other Burden Cost: $0.

Comments submitted in response to this request will be summarized and/or included in the request for Office of Management and Budget approval; they will also become a matter of public record.

James H. Moore, Jr.,
Deputy Assistant Secretary for Policy, U.S. Department of Labor.

[FR Doc. 2013-17523 Filed 7-19-13; 8:45 am]

BILLING CODE 4510-23-P